SECURITIES AND EXCHANGE COMMISSION

17 CFR Parts 240, 242, and 249

[Release No. 34-51019; File No. S7-39-04]

RIN 3235-AJ33

Fair Administration and Governance of Self-Regulatory Organizations; Disclosure and Regulatory Reporting by Self-Regulatory Organizations; Recordkeeping Requirements for Self-Regulatory Organizations; Ownership and Voting Limitations for Members of Self-Regulatory Organizations; Ownership Reporting Requirements for Members of Self-Regulatory Organizations; Listing and Trading of Affiliated Securities by a Self-Regulatory Organization

AGENCY: Securities and Exchange Commission.

ACTION: Proposed rule; extension of comment period.

SUMMARY: The Securities and Exchange Commission (“Commission”) is extending the comment period for a release proposing to adopt new rules and amend existing rules under the Securities Exchange Act of 1934 relating to the fair administration, transparency, governance, and ownership of self-regulatory organizations (“SROs”), which was published for comment in the Federal Register on December 8, 2004 (“SRO Proposed Rulemaking”). The original comment period would have expired on January 24, 2005. The new extended comment period will expire on March 8, 2005.

DATES: Comments should be submitted on or before March 8, 2005.

ADDRESSES: Comments may be submitted by any of the following methods:

Electronic Comments

• Use the Commission's Internet comment form (http://www.sec.gov/rules/proposed); or

• Send an e-mail to rule-comments@sec.gov. Please include File Number S7-39-04 on the subject line; or

• Use the Federal eRulemaking Portal (http://www.regulations.gov). Follow the instructions for submitting comments.

Paper Comments

• Send paper comments in triplicate to Jonathan G. Katz, Secretary, Securities and Exchange Commission, 450 Fifth Street, NW., Washington, DC 20549-0609.

All submissions should refer to File Number S7-39-04. This file number should be included on the subject line if e-mail is used. To help us process and review your comments more efficiently, please use only one method. The Commission will post all comments on the Commission's Internet Web site (http://www.sec.gov/rules/proposed). Comments also are available for public inspection and copying in the Commission's Public Reference Room, 450 Fifth Street, NW., Washington, DC 20549. All comments received will be posted without change; we do not edit personal identifying information from submissions. You should submit only information that you wish to make available publicly.

FOR FURTHER INFORMATION CONTACT: Nancy J. Sanow, Assistant Director, at (202) 942-0796, or Richard Holley III, Attorney, at (202) 942-8086, Division of Market Regulation, Securities and Exchange Commission, 450 Fifth Street, NW., Washington, DC 20549-1001.

SUPPLEMENTARY INFORMATION: On December 8, 2004, the Commission published for comment the SRO Proposed Rulemaking.¹ These proposed new rules and amendments to existing rules relate to the governance, administration, transparency, and ownership of SROs that are national securities exchanges or registered securities associations, and the periodic reporting of information by these SROs regarding their regulatory programs. The proposals also relate to the listing and trading by SROs of their own or affiliated securities.

¹ See Securities Exchange Act Release No. 50699 (Nov. 18, 2004), 69 FR 71126 (Dec. 8, 2004).

The Commission received requests from interested persons to extend the comment period for this release to March 8, 2005, to coincide with the comment period for the Concept Release Concerning Self-Regulation.² The Commission believes that extending the comment period for the SRO Proposed Rulemaking is appropriate in order to give the public additional time to comment on the matters the release addresses. Accordingly, the comment period for the SRO Proposed Rulemaking is extended to March 8, 2005.

² See Securities Exchange Act Release No. 50700 (Nov. 18, 2004), 69 FR 71256 (Dec. 8, 2004).

By the Commission.
Dated: January 11, 2005.
Jill M. Peterson,
Assistant Secretary.

[FR Doc. 05-886 Filed 1-14-05; 8:45 am]

BILLING CODE 8010-01-P